FEDERAL COMMUNICATIONS COMMISSION

47 CFR Part 25

[IB Docket No. 00-248; CC Docket No. 86-496; FCC 05-63]

Satellite Licensing Procedures

AGENCY: Federal Communications Commission.

ACTION: Final rule.

SUMMARY: In this document, the Commission adopts new procedures for non-routine earth station applications, and relaxes certain other earth station requirements. These actions are necessary to expedite the licensing of earth stations often used to provide satellite-based broadband Internet access services.

DATES: Effective July 5, 2005, except for the amendments to §§ 25.115, 25.130, 25.131, 25.132, 25.133, 25.134, 25.151, 25.154, 25.209, 25.211, 25.212, 25.220, and 25.277, which contain information requirements that have not been approved by OMB. The Federal Communications Commission will publish a document in the Federal Register announcing the effective date for these rules.

FOR FURTHER INFORATION CONTACT: Steven Spaeth, Satellite Division, International Bureau, telephone (202) 418-1539 or via the Internet at steven.spaeth@fcc.gov.

SUPPLMENTARY INFORMATION: This summary of the Commission's Fifth Report and Order, IB Docket No. 00-248 and Third Report and Order, CC Docket No. 86-496, FCC 05-63, adopted March 10, 2005, and released on March 15, 2005. The complete text of this Fifth Report and Order and Third Report and Order is available for inspection and copying during normal business hours in the FCC Reference Center (Room), 445 12th Street, SW., Washington, DC 20554, and also may be purchased from the Commission's copy contractor, Best Copy and Printing, Inc., Portals II, 445 12th Street, SW., Room CY-B402, Washington, DC 20554. It is also available on the Commission's Web site at http://www.fcc.gov.

Paperwork Reduction Act Analysis: The actions taken in the Fifth Report and Order have been analyzed with respect to the Paperwork Reduction Act of 1995 (PRA), Pub. Law 104-13, and found to impose new or modified reporting requirements or burdens on the public. Implementation of these new or modified reporting and recordkeeping requirements will be subject to approval by the Office of Management and Budget (OMB) as prescribed by the PRA, and will go into effect upon announcement in the Federal Register of OMB approval.

Regulatory Flexibility Analysis: As required by the Regulatory Flexibility Act of 1980, as amended (RFA),¹ an Initial Regulatory Flexibility Analysis (IRFA) was incorporated in the Notice of Proposed Rule Making (Notice) and the Further Notice of Proposed Rulemaking (Further Notice) in IB Docket No. 00-248.² The Commission sought written public comment on the proposals in the Notice and Further Notice, including comment on the IRFA. This Final Regulatory Flexibility Analysis (FRFA) conforms to the RFA.³

¹ See 5 U.S.C. 603. The RFA, see 5 U.S.C. 601-612, has been amended by the Small Business Regulatory Enforcement Fairness Act of 1996 (SBREFA), Title II, 110 Stat. 857 (1996).

² 2000 Biennial Regulatory Review—Streamlining and Other Revisions of part 25 of the Commission's Rules Governing the Licensing of, and Spectrum Usage by, Satellite Network Earth Stations and Space Stations, Notice of Proposed Rulemaking, IB Docket No. 00-248, 15 FCC Rcd 25128 (2000) (Notice); 2000 Biennial Regulatory Review—Streamlining and Other Revisions of part 25 of the Commission's Rules Governing the Licensing of, and Spectrum Usage by, Satellite Network Earth Stations and Space Stations, Notice of Proposed Rulemaking, IB Docket No. 00-248, 17 FCC Rcd 18585 (2002) (Further Notice).

³ See 5 U.S.C. 604.

A. Need for, and Objectives of, the Report and Order

The Telecommunications Act of 1996 requires the Commission in every even-numbered year beginning in 1998 to review all regulations that apply to the operations or activities of any provider of telecommunications service and to determine whether any such regulation is no longer necessary in the public interest due to meaningful economic competition. Our objective is to repeal or modify any rules in part 25 that are no longer necessary in the public interest, as required by section 11 of the Communications Act of 1934, as amended.

We codify streamlined procedures for case-by-case examination of earth stations using “non-routine” antennas, non-routine power levels, or both. We also relax the downlink EIRP power spectral density limits for Ku-band VSAT systems. Finally, we will allow some temporary fixed earth stations to begin operation sooner than is now permitted.

B. Summary of Significant Issues Raised by Public Comments in Response to the IRFA

No comments were submitted directly in response to the IRFAs in either the Notice or the Further Notice.

C. Description and Estimate of the Number of Small Entities To Which Rules Will Apply

The RFA directs agencies to provide a description of, and, where feasible, an estimate of, the number of small entities that may be affected by the rules adopted herein.⁴ The RFA generally defines the term “small entity” as having the same meaning as the terms “small business,” “small organization,” and “small governmental jurisdiction.⁵ ” In addition, the term “small business” has the same meaning as the term “small business concern” under the Small Business Act.⁶ A small business concern is one which: (1) Is independently owned and operated; (2) is not dominant in its field of operation; and (3) satisfies any additional criteria established by the Small Business Administration (SBA).⁷

⁴ 5 U.S.C. 604(a)(3).

⁵ 5 U.S.C. 601(6).

⁶ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

⁷ 15 U.S.C. 632.

1. Cable Services. The SBA has developed a small business size standard for Cable and Other Program Distribution, which consists of all such firms having $12.5 million or less in annual receipts.⁸ According to Census Bureau data for 1997, in this category there was a total of 1,311 firms that operated for the entire year.⁹ Of this total, 1,180 firms had annual receipts of under $10 million, and an additional fifty-two firms had receipts of $10 million to $24,999,999.¹⁰ Thus, under this size standard, the majority of firms can be considered small.

⁸ 13 CFR 121.201, NAICS code 517510.

⁹ U.S. Census Bureau, 1997 Economic Census, Subject Series: Information, “Establishment and Firm Size (Including Legal Form of Organization),” Table 4, NAICS code 513220 (issued October 2000).

¹⁰ Id.

The Commission has developed its own small business size standard for a small cable operator for the purposes of rate regulation. Under the Commission's rules, a “small cable company” is one serving fewer than 400,000 subscribers nationwide.¹¹ Based on our most recent information, we estimate that there were 1,439 cable operators that qualified as small cable companies at the end of 1995.¹² Since then, some of those companies may have grown to serve over 400,000 subscribers, and others may have been involved in transactions that caused them to be combined with other cable operators. Consequently, we estimate that there are fewer than 1,439 small cable companies that may be affected by the proposed rules.

¹¹ 47 CFR 76.901(e). The Commission developed this definition based on its determinations that a small cable company is one with annual revenues of $100 million or less. See Implementation of Sections of the Cable Television Consumer Protection and Competition Act of 1992: Rate Regulation, MM Docket Nos. 92-266 and 93-215, Sixth Report and Order and Eleventh Order on Reconsideration, 10 FCC Rcd 7393, 7408-7409 ¶¶ 28-30 (1995).

¹² Paul Kagan Assocs., Inc., Cable TV Investor, Feb. 29, 1996 (based on figures for Dec. 30, 1995).

The Communications Act of 1934, as amended, also contains a size standard for a “small cable operator,” which is “a cable operator that, directly or through an affiliate, serves in the aggregate fewer than one percent of all subscribers in the United States and is not affiliated with any entity or entities whose gross annual revenues in the aggregate exceed $250,000,000.¹³ ” The Commission has determined that there are 67,700,000 subscribers in the United States.¹⁴ Therefore, an operator serving fewer than 677,000 subscribers shall be deemed a small operator, if its annual revenues, when combined with the total annual revenues of all of its affiliates, do not exceed $250 million in the aggregate.¹⁵ Based on available data, we estimate that the number of cable operators serving 677,000 subscribers or less totals approximately 1,450.¹⁶ We do not request or collect information on whether cable operators are affiliated with entities whose gross annual revenues exceed $250,000,000,¹⁷ and therefore are unable to estimate accurately the number of cable system operators that would qualify as small cable operators under the definition in the Communications Act.

¹³ 47 U.S.C. 543(m)(2).

¹⁴ See FCC Announces New Subscriber Count for the Definition of Small Cable Operator, Public Notice, 16 FCC Rcd 2225 (2001).

¹⁵ 47 CFR 76.1403(b).

¹⁶ See FCC Announces New Subscriber Count for the Definition of Small Cable Operator, Public Notice, 16 FCC Rcd 2225 (2001).

¹⁷ We do receive such information on a case-by-case basis only if a cable operator appeals a local franchise authority's finding that the operator does not qualify as a small cable operator pursuant to section 76.901(f) of the Commission's rules. See 47 CFR 76.990(b).

2. Satellite Telecommunications. The rules proposed in this Further Notice would affect providers of satellite telecommunications services, if adopted. Satellite telecommunications service providers include satellite operators and earth station operators. The Commission has not developed a definition of small entities applicable to satellite operators. Therefore, the applicable definition of small entity is generally the definition under the SBA rules applicable to Satellite Telecommunications.¹⁸ This definition provides that a small entity is expressed as one with $12.5 million or less in annual receipts.¹⁹ 1997 Census Bureau data indicate that, for 1997, 273 satellite communication firms had annual receipts of under $10 million. In addition, 24 firms had receipts for that year of $10 million to $24,999,990.²⁰

¹⁸ “This industry comprises establishments primarily engaged in providing point-to-point telecommunications services to other establishments in the telecommunications and broadcasting industries by forwarding and receiving communications signals via a system of satellites or reselling satellite telecommunications.” Small Business Administration, NAICS code 517310.

¹⁹ 13 CFR 120.121, NAICS code 517310.

²⁰ U.S. Census Bureau, 1997 Economic Census, Subject Service: Information, “Establishment and Firm Size,” Table 4, NAICS 513340 (Issued Oct. 2000).

3. Auxiliary, Special Broadcast and other program distribution services. This service involves a variety of transmitters, generally used to relay broadcast programming to the public (through translator and booster stations) or within the program distribution chain (from a remote news gathering unit back to the station). The Commission has not developed a definition of small entities applicable to broadcast auxiliary licensees. Therefore, the applicable definition of small entity is the definition under the Small Business Administration (SBA) rules applicable to radio broadcasting stations,²¹ and television broadcasting stations.²² These definitions provide that a small entity is one with either $6.0 million or less in annual receipts for a radio broadcasting station or $12.0 million in annual receipts for a TV station.²³ There are currently 3,237 FM translators and boosters, 4,913 TV translators.²⁴ The FCC does not collect financial information on any broadcast facility and the Department of Commerce does not collect financial information on these auxiliary broadcast facilities. We believe, however, that most, if not all, of these auxiliary facilities could be classified as small businesses by themselves. We also recognize that most translators and boosters are owned by a parent station which, in some cases, would be covered by the revenue definition of small business entity discussed above. These stations would likely have annual revenues that exceed the SBA maximum to be designated as a small business (as noted, either $6.0 million for a radio station or $12.0 million for a TV station). Furthermore, they do not meet the Small Business Act's definition of a “small business concern” because they are not independently owned and operated.

²¹ 13 CFR 121.201, NAICS code 515112.

²² 13 CFR 121.201, NAICS code 515120.

²³ 13 CFR 121.201.

²⁴ FCC News Release, Broadcast Station Totals as of September 30, 1999, No. 71831 (Jan. 21, 1999).

4. Microwave Services. Microwave services include common carrier,²⁵ private-operational fixed,²⁶ and broadcast auxiliary radio services.²⁷ At present, there are approximately 22,015 common carrier fixed licensees and 61,670 private operational-fixed licensees and broadcast auxiliary radio licensees in the microwave services. The Commission has not yet defined a small business with respect to microwave services. For purposes of this FRFA, we will use the SBA's definition applicable to cellular and other wireless communications companies—i.e., an entity with no more than 1,500 persons.²⁸ We estimate that all of the Fixed Microwave licensees (excluding broadcast auxiliary licensees) would qualify as small entities under the SBA definition for radiotelephone (wireless) companies.

²⁵ See 47 CFR part 101 et seq. (formerly, part 21 of the Commission's Rules).

²⁶ Persons eligible under parts 80 and 90 of the Commission's rules can use Private Operational-Fixed Microwave services. See 47 CFR parts 80 and 90. Stations in this service are called operational-fixed to distinguish them from common carrier and public fixed stations. Only the licensee may use the operational-fixed station, and only for communications related to the licensee's commercial, industrial, or safety operations.

²⁷ Auxiliary Microwave Service is governed by part 74 of Title 47 of the Commission's Rules. See 47 CFR part 74 et seq. Available to licensees of broadcast stations and to broadcast and cable network entities, broadcast auxiliary microwave stations are used for relaying broadcast television signals from the studio to the transmitter, or between two points such as a main studio and an auxiliary studio. The service also includes mobile TV pickups, which relay signals from a remote location back to the studio.

²⁸ See 13 CFR 121.201, NAICS code 517212.

D. Description of Projected Reporting, Recordkeeping, and Other Compliance Requirements

The rules adopted in this Fifth Report and Order are not intended to increase the reporting, record keeping and other compliance requirements of any licensee, and we do not anticipate any differential treatment to be received by larger and smaller entities. The reporting requirements we adopt in this Fifth Report and Order generally replace the more burdensome Adjacent Satellite Interference Analysis (ASIA) requirement. These requirements will not affect small businesses differently from other non-routine earth station applicants.

Specifically, instead of the more burdensome ASIA requirement, non-routine earth station applicants under the new rules will be required to provide the following information: (1) A detailed description of the service to be provided, including frequency bands and satellites to be used. The applicant must identify either the specific satellite(s) with which it plans to operate, or the eastern and western boundaries of the arc it plans to coordinate. (2) The diameter or equivalent diameter of the antenna. (3) Proposed power and power density levels. (4) Identification of any random access technique, if applicable. (5) Identification of a specific rule or rules for which a waiver is requested.

In addition, non-routine earth station applicants choosing to use the certification procedure will be required under the new rules to provide certifications showing that the satellite operators with whom they plan to communicate have coordinated their operations with adjacent satellite operators.

Finally, all earth station applicants planning to operate in government/non-government frequency bands must provide information on half-power beam width of the earth station antenna under the new rules.

E. Steps Taken To Minimize Significant Economic Impact on Small Entities, and Significant Alternatives Considered

The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.²⁹

²⁹ 5 U.S.C. 603(c)(1)-(c)(4).

This Fifth Report and Order adopts procedures that will allow faster and easier processing of non-routine earth station applications. One of the proposals adopted here is to license non-routine earth station operators upon a showing that they will lower their power levels to reduce the potential for harmful interference. The Commission specifically considered and rejected a proposal to require such earth station operators to provide certifications that their non-routine operations have been coordinated with adjacent satellite operators. Requiring certifications in addition to power reductions, instead of as an alternative to power reductions, would have been more burdensome to all earth station operators, including those that are small entities. Thus, rejection of that proposal benefits all earth station applicants, including small entities.

In this Fifth Report and Order, the Commission also increases the downlink EIRP power spectral density limits for Ku-band VSAT systems. One alternative was to keep the previous power spectral density limits. The Commission rejected that alternative because increasing the power limit increases flexibility and thus decreases regulatory burdens for all VSAT network operators, including small VSAT network operators.

Finally, in this Fifth Report and Order, the Commission adopts rules allowing routine Ku-band temporary-fixed earth station operators to begin operation sooner than is now permitted. One alternative was to keep the previous requirements, which prohibited all temporary-fixed earth station operators from operating before the end of a notice-and-comment period. The Commission rejected that alternative because allowing earlier operation decreases regulatory burdens for all routine Ku-band temporary-fixed earth station operators, including small earth station operators falling in this category.

F. Report to Congress

The Commission will send a copy of the Fifth Report and Order, including this FRFA, in a report to be sent to Congress pursuant to the Congressional Review Act, see 5 U.S.C. 801(a)(1)(A). In addition, the Commission will send a copy of the Fifth Report and Order, including FRFA, to the Chief Counsel for Advocacy of the Small Business Administration. A copy of the Fifth Report and Order and FRFA (or summaries thereof) will also be published in the Federal Register. See 5 U.S.C. 604(b).

Summary of Report and Order: The Commission adopts the streamlined procedures for non-routine earth station applications proposed in the Notice in this proceeding. Under the new procedures, applicants proposing smaller-than-routine earth station antennas are allowed to choose between (1) operating at reduced power levels, and (2) obtaining certifications from target satellite operators showing that the non-routine earth station has been coordinated with potentially affected satellite operators. Applicants proposing higher-than-routine earth station power levels are allowed obtain certifications from target satellite operators showing that the non-routine earth station has been coordinated with potentially affected satellite operators.

Under both procedures, the Commission will place the application on 30 days public notice, to be followed by a 60-day timetable for coordination negotiations between satellite operators if any comments are filed in response to the application. If non-routine earth station operations are not coordinated with the satellites neighboring a target satellite at the end of the 60-day period, we will not authorize the earth station to communicate with that satellite. In addition to this 30-day public notice and 60-day coordination requirement, all parties filing non-routine earth station applications must provide information for an “informative,” as an attachment to the earth station application, to be placed in the public notice.

The Commission directed the International Bureau to establish a List of Approved Non-Routine Antennas on its website, and we delegated authority to the Bureau for this purpose.

The Commission increased the Ku-band downlink EIRP density limit for routine processing of Ku-band earth stations from 6 to 10 dBW/4 kHz.

In addition, the Commission adopted rules allowing operators of “routine” temporary fixed earth stations in the Ku-band to begin operation immediately upon placement of the application on public notice, rather than waiting for license grant. Alternatively, the Commission rejected the proposal in CC Docket No. 86-496 to require testing for temporary-fixed earth stations. Finally, the Commission modified, relaxed, or clarified several part 25 rules, including the rules governing VSAT systems, METs, and temporary-fixed earth stations.

Ordering Clauses

Accordingly, it is ordered, pursuant to sections 4(i), 7(a), 11, 303(c), 303(f), 303(g), and 303(r) of the Communications Act of 1934, as amended, 47 U.S.C. 154(i), 157(a), 161, 303(c), 303(f), 303(g), 303(r), that this Fifth Report and Order in IB Docket No. 00-248 is hereby adopted.

It is further ordered that part 25 of the Commission's rules is amended as set forth in Appendix B.

It is further ordered that the Chief, International Bureau is delegated authority to develop a list of approved non-routine earth station antennas as set forth in this Order above.

It is further ordered that the provisions of this Order will be effective 30 days after a summary of this Order is published in the Federal Register, except for the new information collection requirements.

This Report and Order contains information collection requirements subject to the Paperwork Reduction Act of 1995 (PRA), Public Law 104-13, that are not effective until approved by the Office of Management and Budget. The Federal Communications Commission will publish a document in the Federal Register following approval of the information collection by the Office of Management and Budget (OMB) announcing the effective date of those rules.

It is further ordered that the Commission's Office of Consumer and Government Affairs, Reference Information Center, shall send a copy of this Order, including the Final Regulatory Flexibility Analysis, to the Chief Counsel for Advocacy of the Small Business Administration.

It is further ordered that CC Docket No. 86-496 is terminated.

List of Subjects in 47 CFR Part 25

Communications common carriers, Communications equipment, Equal employment opportunity, Radio, Reporting and recordkeeping requirements, Satellites, Securities, Telecommunications.

Federal Communications Commission.
Marlene H. Dortch,
Secretary.

For the reasons discussed in the preamble, the Federal Communications Commission amends 47 CFR part 25 as follows:

PART 25—SATELLITE COMMUNICATIONS

1. The authority citation for part 25 continues to read as follows:

Authority: 47 U.S.C. 701-744. Interprets or applies Sections 4, 301, 302, 303, 307, 309, and 332 of the Communications Act, as amended, 47 U.S.C. Sections 154, 301, 302, 303, 307, 309, and 332, unless otherwise noted.

2. Amend § 25.109 by adding paragraph (c) to read as follows:

§ 25.109 Cross-reference.

* * * * *

(c) Ship earth stations in the Maritime Mobile Satellite Service, see 47 CFR part 80.

3. Amend § 25.113 by revising the section heading and paragraph (a), and removing and reserving paragraph (b) to read as follows:

§ 25.113 Station licenses and launch authority.

(a) Construction permits are not required for satellite earth stations. Construction of such stations may commence prior to grant of a license at the applicant's own risk. Applicants must comply with the provisions of 47 CFR 1.1312 relating to environmental processing prior to commencing construction.

* * * * *

4. Amend § 25.115 by revising paragraphs (a)(1) and (c)(1) to read as follows:

§ 25.115 Application for earth station authorizations.

(a)(1) Transmitting earth stations. Commission authorization must be obtained for authority to operate a transmitting earth station. Applications shall be filed electronically on FCC Form 312, Main Form and Schedule B, and include the information specified in § 25.130, except as set forth in paragraph (a)(2) of this section.

* * * * *

(c)(1) Large Networks of Small Antennas operating in the 11.7-12.2 GHz and 14.0-14.5 GHz frequency bands with U.S.-licensed or non-U.S.-licensed satellites for domestic or international services. Applications to license small antenna network systems operating in the 11.7-12.2 GHz and 14.0-14.5 GHz frequency band under blanket operating authority shall be filed on FCC Form 312 and Schedule B, for each large (5 meters or larger) hub station, and Schedule B for each representative type of small antenna (less than 5 meters) operating within the network.

* * * * *

5. Amend § 25.117 by adding paragraph (g) to read as follows:

§ 25.117 Modification of station license.

* * * * *

(g) In cases where an earth station licensee proposes additional transmitters, facilities, or modifications, the resulting transmissions of which can reasonably be expected to cause the power density to exceed the RF exposure limits specified in part 1, subpart I of this chapter by five percent, the licensee must submit an environmental assessment pursuant to § 1.1307(b)(3)(i) of this chapter as an attachment to its modification application.

6. Amend § 25.118 by revising paragraph (a)(5) to read as follows:

§ 25.118 Modifications not requiring prior authorization.

(a) * * *

(5) Earth station operators may change their points of communication without prior authorization, provided that the change results from a space station license modification described in paragraph (e) of this section, and the earth station operator does not repoint its antenna. Otherwise, any modification of an earth station license to add or change a point of communication will be considered under § 25.117.

* * * * *

7. Amend § 25.130 by revising paragraph (a) and adding paragraph (f) to read as follows:

§ 25.130 Filing requirements for transmitting earth stations.

(a) Applications for a new or modified transmitting earth station facility shall be submitted on FCC Form 312, Main Form and Schedule B, accompanied by any required exhibits, except for those earth station applications filed on FCC Form 312EZ pursuant to § 25.115(a). All such earth station license applications must be filed electronically through the International Bureau Filing System (IBFS) in accordance with the applicable provisions of part 1, subpart Y of this chapter. Additional filing requirements for ESVs are described in §§ 25.221 and 25.222. In addition, applicants not required to submit applications on Form 312EZ, other than ESV applicants, must submit the following information to be used as an “informative” in the public notice issued under § 25.151 as an attachment to their application:

(1) A detailed description of the service to be provided, including frequency bands and satellites to be used. The applicant must identify either the specific satellite(s) with which it plans to operate, or the eastern and western boundaries of the arc it plans to coordinate.

(2) The diameter or equivalent diameter of the antenna.

(3) Proposed power and power density levels.

(4) Identification of any random access technique, if applicable.

(5) Identification of a specific rule or rules for which a waiver is requested.

* * * * *

(f) Applicants seeking to operate in a shared government/non-government band must provide the half-power beam width of their proposed earth station antenna, as an attachment to their applications.

8. Amend § 25.131 by revising paragraph (a) to read as follows:

§ 25.131 Filing requirements for receive-only earth stations.

(a) Except as provided in paragraphs (b) and (j) of this section, and § 25.115(a), applications for a license for a receive-only earth station shall be submitted on FCC Form 312, Main Form and Schedule B, accompanied by any required exhibits and the information described in §§ 25.130(a)(1) through 25.130(a)(5). All such earth station license applications must be filed electronically through the International Bureau Filing System (IBFS) in accordance with the applicable provisions of part 1, subpart Y of this chapter.

* * * * *

9. Amend § 25.132 by revising paragraph (a) and adding paragraph (b)(3) to read as follows:

§ 25.132 Verification of earth station antenna performance standards.

(a)(1) All applications for transmitting earth stations, except for earth stations operating in the 20/30 GHz band, must be accompanied by a certificate pursuant to § 2.902 of this chapter from the manufacturer of each antenna that the results of a series of radiation pattern tests performed on representative equipment in representative configurations by the manufacturer demonstrates that the equipment complies with the performance standards set forth in § 25.209. The licensee must be prepared to demonstrate the measurements to the Commission on request.

(2) All applications for transmitting earth stations operating in the 20/30 GHz band must be accompanied by the measurements specified in §§ 25.138(d) and (e).

(b) * * *

(3) Applicants seeking authority to use an antenna that does not meet the standards set forth in §§ 25.209(a) and (b), pursuant to the procedure set forth in § 25.220, are required to submit a copy of the manufacturer's range test plots of the antenna gain patterns specified in paragraph (b)(1) of this section.

* * * * *

10. Amend § 25.133 by revising paragraphs (a) and (b) to read as follows:

§ 25.133 Period of construction; certification of commencement of operation.

(a)(1) Each license for an earth station governed by this part, except for mobile satellite earth station terminals (METs), shall specify as a condition therein the period in which construction of facilities must be completed and station operation commenced. Construction of the earth station must be completed and the station must be brought into operation within 12 months from the date of the license grant except as may be determined by the Commission for any particular application.

(2) Each license for mobile satellite earth station terminals (METs) shall specify as a condition therein the period in which station operation must be commenced. The networks in which the METs will be operated must be brought into operation within 12 months from the date of the license grant except as may be determined by the Commission for any particular application.

(b)(1) Each license for a transmitting earth station included in this part, except for earth stations licensed under a blanket licensing provision, shall also specify as a condition therein that upon the completion of construction, each licensee must file with the Commission a certification containing the following information:

(i) The name of the licensee;

(ii) File number of the application;

(iii) Call sign of the antenna;

(iv) Date of the license;

(v) A certification that the facility as authorized has been completed and that each antenna facility has been tested and is within 2 dB of the pattern specified in § 25.209, § 25.135 (NVNG MSS earth stations), or § 25.213 (1.6/2.4 GHz Mobile-Satellite Service earth stations);

(vi) The date on which the earth station became operational; and

(vii) A statement that the station will remain operational during the license period unless the license is submitted for cancellation.

(2) For earth stations authorized under any blanket licensing provision in this chapter, a certification containing the information in paragraph (b)(1) of this section must be filed when the network is put into operation.

* * * * *

11. Amend § 25.134 by revising paragraphs (a)(1), (b), and (d), removing and reserving paragraph (c), and adding paragraphs (e) and (f), to read as follows:

§ 25.134 Licensing provisions of Very Small Aperture Terminal (VSAT) and C-band Small Aperture Terminal (CSAT) networks.

(a)(1) VSAT networks operating in the 12/14 GHz bands. All applications for digital VSAT networks with a maximum outbound downlink EIRP density of +10.0 dBW/4 kHz per carrier and earth station antennas with maximum input power density of −14 dBW/4 kHz will be processed routinely. All applications for analog VSAT networks with maximum outbound downlink power densities of +17.0 dBW/4 kHz per carrier and maximum antenna input power densities of −8.0 dBW/4 kHz shall be processed routinely in accordance with Declaratory Order in the Matter of Routine Licensing of Earth Stations in the 6 GHz and 14 GHz Bands Using Antennas Less than 9 Meters and 5 Meters in Diameter, Respectively, for Both Full Transponder and Narrowband Transmissions, 2 FCC Rcd 2149 (1987) (Declaratory Order).

* * * * *

(b) VSAT networks operating in the 11.7-12.2 GHz and 14.0-14.5 GHz band. Each applicant for digital and/or analog VSAT network authorization proposing to use transmitted satellite carrier EIRP densities and/or maximum antenna input power in excess of those specified in paragraph (a) of this Section must comply with the procedures set forth in § 25.220.

* * * * *

(d) An application for VSAT authorization shall be filed on FCC Form 312, Main Form and Schedule B.

(e) VSAT operators in the 11.7-12.2 GHz and 14.0-14.5 GHz frequency bands are permitted to use more than one hub earth station in their networks.

(f) VSAT operators in the 11.7-12.2 GHz and 14.0-14.5 GHz frequency bands are permitted to use temporary fixed earth stations as either hub earth stations or remote earth stations in their networks, but must specify the number of temporary fixed earth stations they plan to use in their networks at the time of their applications.

§ 25.144 [Amended]

12. In § 25.144, remove and reserve paragraph (a)(1).

13. Amend § 25.151 by revising paragraphs (c)(2) and (d), and adding paragraph (e) to read as follows:

§ 25.151 Public notice period.

* * * * *

(c) * * *

(2) For temporary authorization pursuant to § 25.120.

* * * * *

(d) Except as specified in paragraph (e) of this section, no application that has appeared on public notice will be granted until the expiration of a period of thirty days following the issuance of the public notice listing the application, or any major amendment thereto. Any comments or petitions must be delivered to the Commission by that date in accordance with § 25.154.

(e)(1) Applicants seeking authority to operate a temporary fixed earth station pursuant to § 25.277 may consider their applications “provisionally granted,” and may initiate operations upon the placement of the complete FCC Form 312 application on public notice, provided that

(i) The temporary fixed earth station will operate only in the conventional Ku-band (14.0-14.5 GHz and 11.7-12.2 GHz bands);

(ii) The temporary fixed earth station's operations will be consistent with all routine-licensing requirements for the conventional Ku-band; and

(iii) The temporary fixed earth station's operations will be limited to satellites on the Permitted Space Station List.

(2) Applications for authority granted pursuant to paragraph (e)(1) of this section shall be placed on public notice pursuant to paragraph (a)(1) of this section. If no comments or petitions are filed within 30 days of the public notice date, the authority granted will be considered a regular temporary fixed earth station authorization as of 30 days after the public notice date. If a comment or petition is filed within 30 days of the public notice date, the applicant must suspend operations immediately pending resolution of the issues raised in that comment or petition.

14. Amend § 25.154 by revising paragraphs (c) and (d) and adding paragraph (e) to read as follows:

§ 25.154 Oppositions to applications and other pleadings.

* * * * *

(c) Except for opposition to petitions to deny an application filed pursuant to § 25.220, oppositions to petitions to deny an application or responses to comments and informal objections regarding an application may be filed within 10 days after the petition, comment, or objection is filed and must be in accordance with other applicable provisions of §§ 1.41 through 1.52 of this chapter, except that such oppositions must be filed electronically through the International Bureau Filing System (IBFS) in accordance with the applicable provisions of part 1, subpart Y of this chapter.

(d) Except for opposition to petitions to deny an application filed pursuant to § 25.220, reply comments by the party that filed the original petition may be filed with respect to pleadings filed pursuant to paragraph (c) of this section within 5 days after the time for filing oppositions has expired unless the Commission otherwise extends the filing deadline and must be in accordance with other applicable provisions of §§ 1.41 through 1.52 of this chapter, except that such reply comments must be filed electronically through the International Bureau Filing System (IBFS) in accordance with the applicable provisions of part 1, subpart Y of this chapter.

(e) If a petition to deny an application filed pursuant to § 25.220 is filed, the applicant must file a statement with the Commission explaining whether the applicant has resolved all outstanding issues raised by the petitioner, within 30 days of the date the petition for deny is filed. This statement must be in accordance with the provisions of §§ 1.41 through 1.52 of this chapter applicable to oppositions to petitions to deny, except that such reply comments must be filed electronically through the International Bureau Filing System (IBFS) in accordance with the applicable provisions of part 1, subpart Y of this chapter.

15. Revise § 25.201 by adding introductory text, and by adding eight definitions in alphabetical order to read as follows:

§ 25.201 Definitions.

Definitions for terms in subpart C of this part appear in this section, and in § 2.1 of this chapter.

* * * * *

C-band. For purposes of this part, the terms “C-band” and “conventional C-band” refer specifically to the 3700-4200 MHz downlink and 5925-6425 MHz uplink frequency bands. These paired bands are allocated to the Fixed-Satellite Service and are also referred to as the 4/6 GHz band(s).

* * * * *

Electronic filing. The submission of applications, exhibits, pleadings, or other filings to the Commission in an electronic form using Internet or World Wide Web on-line filing forms.

Equivalent diameter. When circular aperture reflector antennas are employed, the size of the antenna is generally expressed as the diameter of the antenna's main reflector. When non-reflector or non-circular aperture antennas are employed, an equivalent diameter can be computed for the antenna. The equivalent diameter is the diameter of a hypothetical circular aperture antenna with the same aperture area as the actual antenna. For example, an elliptical aperture antenna with major axis, a, and minor axis, b, will have an equivalent diameter of [a x b]1/2. A rectangular aperture antenna with length, l, and width, w, will have an equivalent diameter of [4(l x w)/π]1/2.

* * * * *

Ku-band. In this rule part, the terms “Ku-band” and “conventional Ku-band” refer specifically to the 11700-12200 MHz downlink and 14000-14500 MHz uplink frequency bands. These paired bands are allocated to the Fixed-Satellite Service and are also referred to as the 12/14 GHz band(s).

* * * * *

Permitted Space Station List. A list of satellites operating in the C-band and/or Ku-band including all U.S.-licensed satellites and those non-U.S.-licensed satellites for which the Commission has authorized routine U.S.-licensed earth stations to communicate with that satellite, and the satellite operator has requested the Commission to place its satellite on the Permitted Space Station List.

Power flux density. The amount of power flow through a unit area within a unit bandwidth. The units of power flux density are those of power spectral density per unit area, namely watts per hertz per square meter. These units are generally expressed in decibel form as dB(W/Hz/m²), dB(W/m²) in a 4 kHz band, or dB(W/m²) in a 1 MHz band.

Power spectral density. The amount of an emission's transmitted carrier power falling within the stated reference bandwidth. The units of power spectral density are watts per hertz and are generally expressed in decibel form as dB(W/Hz), dB(W/4kHz), or dB(W/1MHz).

* * * * *

Routine processing or licensing. A licensing process whereby applications are processed in an expedited fashion. Such applications must be complete in all regards and consistent with all Commission Rules and must not raise any policy issues. With respect to earth station licensing, an application is “routine” only if it conforms to all antenna, power, coordination, radiation hazard, and FAA notification rules, and accesses only “Permitted Space Station List” satellites in the conventional C-band or Ku-band frequency bands.

* * * * *

§ 25.202 [Amended]

16. In § 25.202, remove and reserve paragraph (a)(2).

17. In § 25.204, revise paragraphs (a) and (b) to read as follows:

§ 25.204 Power limits.

(a) In bands shared coequally with terrestrial radio communication services, the equivalent isotropically radiated power transmitted in any direction towards the horizon by an earth station, other than an ESV, operating in frequency bands between 1 and 15 GHz, shall not exceed the following limits except as provided for in paragraph (c) of this section:

+40 dBW in any 4 kHz band for θ ≤ 0°

+40 + 3θ dBW in any 4 kHz band for 0° < θ ≤ 5°

where θ is the angle of elevation of the horizon viewed from the center of radiation of the antenna of the earth station and measured in degrees as positive above the horizontal plane and negative below it.

(b) In bands shared coequally with terrestrial radiocommunication services, the equivalent isotropically radiated power transmitted in any direction towards the horizon by an earth station operating in frequency bands above 15 GHz shall not exceed the following limits except as provided for in paragraph (c) of this section:

+64 dBW in any 1 MHz band for θ ≤ 0°

+64 + 3 θ dBW in any 1 MHz band for 0° < θ ≤ 5°

where θ is as defined in paragraph (a) of this section.

* * * * *

18. In § 25.209, revise paragraph (f), to read as follows:

§ 25.209 Antenna performance standards.

* * * * *

(f) An earth station with an antenna not conforming to the standards of paragraphs (a) and (b) of this section will be authorized after February 15, 1985 upon a finding by the Commission that unacceptable levels of interference will not be caused under conditions of uniform 2° orbital spacing. An earth station antenna initially authorized on or before February 15, 1985 will be authorized by the Commission to continue to operate as long as such operations are found not to cause unacceptable levels of adjacent satellite interference. In either case, the Commission will impose appropriate terms and conditions in its authorization of such facilities and operations. The applicant has the burden of demonstrating that its antenna not conforming to the standards of paragraphs (a) and (b) of this section will not cause unacceptable interference. This demonstration must comply with the procedures set forth in § 25.220.

* * * * *

19. In § 25.210, revise the introductory text in paragraph (a) to read as follows:

§ 25.210 Technical requirements for space stations in the Fixed-Satellite Service.

(a) All space stations in the Fixed-Satellite Service used for domestic service in the 3700-4200 MHz and 5925-6425 MHz frequency bands shall:

* * * * *

20. In § 25.211, revise the section heading and paragraph (d), and add paragraphs (e) and (f) to read as follows:

§ 25.211 Analog video transmissions in the Fixed-Satellite Services.

* * * * *

(d) An earth station may be routinely licensed for transmission of full transponder video analog services provided:

(1) In the 5925-6425 MHz band, with an antenna equivalent diameter 4.5 meters or greater, the maximum input power into the antenna does not exceed 26.5 dBW; or

(2) In the 14.0-14.5 GHz band, with an antenna equivalent diameter of 1.2 meters or greater, the maximum input power into the antenna does not exceed 27 dBW.

(e) Antennas smaller than those specified in paragraph (d) of this section are subject to the provisions of § 25.220, which may include power reduction requirements. These antennas will not be routinely licensed for transmission of full transponder services.

(f) Each applicant for authorization for analog transmissions in the fixed-satellite service proposing to use maximum power into the antenna in excess of those specified in § 25.211(d), must comply with the procedures set forth in § 25.220.

21. In § 25.212, revise the section heading and paragraphs (c) and (d), and add new paragraph (e) to read as follows:

§ 25.212 Narrowband analog transmissions, digital transmissions, and video transmissions in the GSO Fixed-Satellite Service.

* * * * *

(c) In the 14.0-14.5 GHz band, an earth station with an antenna equivalent diameter of 1.2 meters or greater may be routinely licensed for transmission of narrowband analog services with bandwidths up to 200 kHz if the maximum input power spectral density into the antenna does not exceed −8 dBW/4 kHz and the maximum transmitted satellite carrier EIRP density does not exceed 13 dBW/4 kHz. Such earth stations may be routinely licensed for transmission of narrowband and/or wideband digital services, including digital video services, if the maximum input spectral power density into the antenna does not exceed −14 dBW/4 kHz and the maximum transmitted satellite carrier EIRP density does not exceed +6.0 dBW/4 kHz. Antennas with a smaller major or minor axis in the 14 GHz band are subject to the provisions of § 25.220, which may include power reduction requirements.

(d) In the 5925-6425 MHz band, an earth station with an equivalent diameter of 4.5 meters or greater may be routinely licensed for transmission of SCPC services if the maximum power densities into the antenna do not exceed +0.5 dBW/4 kHz for analog SCPC carriers with bandwidths up to 200 kHz, and do not exceed −2.7 dBW/4 kHz for narrow and/or wideband digital SCPC carriers. Antennas with an equivalent diameter smaller than 4.5 meters in the 5925-6425 MHz band are subject to the provisions of § 25.220, which may include power reduction requirements.

(e) Each applicant for authorization for transmissions in the fixed-satellite service proposing to use transmitted satellite carrier EIRP densities, and/or maximum antenna input power densities in excess of those specified in paragraph (c) of this section in the 14.0-14.5 GHz band, or in paragraph (d) of this section in the 5925-6425 MHz band, respectively, must comply with the procedures set forth in § 25.220.

22. Section 25.220 is added to read as follows:

§ 25.220 Non-conforming transmit/receive earth station operations.

(a)(1) This section applies to earth station applications other than ESV applications in which:

(i) The proposed antenna does not conform to the standards of §§ 25.209(a) and

(b), and/or

(ii) The proposed power density levels are in excess of those specified in § 25.134, § 25.211, or § 25.212, or those derived by the procedure set forth in paragraph (c)(1) of this section, whichever is applicable.

(2) Paragraphs (b) through (e) and (g) of this section apply to the earth station applications described in paragraph (a)(1) of this section, in which the applicant seeks transmit/receive authority.

(3) Paragraphs (f) and (g) of this section applies to the earth station applications described in paragraph (a)(1) of this section in which the applicant seeks transmit-only or receive-only authority.

(4) The requirements for petitions to deny applications filed pursuant to this section are set forth in § 25.154.

(b) If an antenna proposed for use by the applicant does not comply with the antenna performance standards contained in § 25.209(a) and (b), the applicant must provide, as an exhibit to its FCC Form 312 application, the antenna gain patterns specified in § 25.132(b).

(c) If an antenna proposed for use by the applicant does not comply with the performance standards contained in § 25.209(a) and (b), the applicant must meet the requirements of either paragraph (c)(1) or (c)(2) of this section to obtain authority to transmit. The applicant must meet the requirements of paragraph (c)(3) of this section to obtain protection from receiving interference from adjacent satellite operators.

(1) The applicant must provide in its Form 312, Schedule B, the power and power density levels that result by reducing the values stated in §§ 25.134, 25.211, or 25.212, whichever is applicable, by the number of decibels that the non-compliant antenna fails to meet the antenna performance standard of § 25.209(a) and (b), or

(2) The applicant will not be permitted to transmit to any satellite unless the applicant has provided the certifications listed in paragraph (e)(1) of this section from the operator of that satellite(s).

(3) The applicant will not receive protection from adjacent satellite interference from any satellite unless the applicant has provided the certifications listed in paragraph (d)(1) of this section from the operator of that satellite(s) from which it plans to receive.

(d)(1) If an antenna proposed for use by the applicant does not comply with the performance standards contained in § 25.209(a) and (b), the applicant must submit the certifications listed in paragraphs (d)(1)(i) through (d)(1)(iv) of this section to qualify for protection from receiving interference from other satellite systems. The applicant will be granted protection from receiving interference only with respect to the satellite systems included in the coordination agreements referred to in the certification required by paragraph (d)(1)(ii) of this section, and only to the extent that protection from receiving interference is afforded by those coordination agreements.

(i) A statement from the satellite operator acknowledging that the proposed operation of the subject non-conforming earth station with its satellite(s) has the potential to receive interference from adjacent satellite networks that may be unacceptable.

(ii) A statement from the satellite operator that it has coordinated the operation of the subject non-conforming earth station accessing its satellite(s), including its required downlink power density based on the information contained in the application, with all adjacent satellite networks within 6° of orbital separation from its satellite(s), and the operations will operate in conformance with existing coordination agreement for its satellite(s) with other satellite systems.

(iii) A statement from the satellite operator that it will include the subject non-conforming earth station operations in all future satellite network coordinations, and

(iv) A statement from the earth station applicant certifying that it will comply with all coordination agreements reached by the satellite operator(s).

(2) A license granted pursuant to paragraph (d)(1) of this section will include, as a condition on that license, that if a good faith agreement cannot be reached between the satellite operator and the operator of a future 2° compliant satellite, the earth station operator shall accept the power density levels that would accommodate the 2° compliant satellite.

(e)(1) An earth station applicant proposing to use transmitted satellite carrier EIRP densities, and/or maximum power into the antenna in excess of the levels in §§ 25.134, 25.211, 25.212, or the power density levels derived through the procedure set forth in paragraph (c)(1) of this section, whichever is applicable, shall provide the following certifications as an exhibit to its earth station application:

(i) A statement from the specified satellite operator acknowledging that the proposed operation of the subject non-conforming earth station with its satellite(s) has the potential to create interference to adjacent satellite networks that may be unacceptable.

(ii) A statement from the specified satellite operator that it has coordinated the operation of the subject non-conforming Earth Station accessing its satellite(s), and its corresponding downlink power density requirements (based on the information contained in the application) with all adjacent satellite networks within 6° of orbital separation from its satellite(s), and the operations will not violate any existing coordination agreement for its satellite(s) with other satellite systems.

(iii) A statement from the specified satellite operator that it will include the subject non-conforming Earth Station power and power densities in all future satellite network coordinations, and

(iv) A statement from the earth station applicant certifying that it will comply with all coordination agreements reached by the satellite operator(s).

(2) A license granted pursuant to paragraph (e)(1) of this section will include, as a condition on that license, that if a good faith agreement cannot be reached between the satellite operator and the operator of a future 2° compliant satellite, the earth station operator shall reduce its power to those levels that would accommodate the 2° compliant satellite.

(f)(1) If an earth station applicant requests transmit-only authority, and its proposed antenna does not conform to the standards of § 25.209(a) and (b), it must meet the requirements of paragraphs (b) and (c) of this section.

(2) If an earth station applicant requests transmit-only authority, and its proposed power density levels are in excess of those specified in §§ 25.134, 25.211, or 25.212, or those derived by the procedure set forth in paragraph (c)(1) of this section, it must meet the requirements of paragraph (e) of this section.

(3) If an earth station applicant requests receive-only authority, and its proposed antenna does not conform to the standards of § 25.209(a) and (b), it must meet the requirements of paragraphs (b) and (d) of this section.

(g) Applicants filing applications for earth stations pursuant to this section must provide the following information for the Commission's public notice:

(1) Detailed description of the service to be provided, including frequency bands and satellites to be used. The applicant must identify either the specific satellites with which it plans to operate, or the eastern and western boundaries of the geostationary satellite orbit arc it plans to coordinate.

(2) The diameter or equivalent diameter of the antenna.

(3) Proposed power and power density levels.

(4) Identification of any rule or rules for which a waiver is requested.

23. In § 25.271, add paragraph (c)(5) to read as follows:

§ 25.271 Control of transmitting earth stations.

* * * * *

(c) * * *

(5) International VSAT system operators are required to maintain a control point within the United States, or to maintain a point of contact within the United States available 24 hours a day, 7 days a week, with the ability to shut off any earth station within the VSAT network immediately upon notification of harmful interference.

* * * * *

24. In § 25.274, revise paragraph (e), remove paragraph (g), redesignate paragraph (f) as new paragraph (g), and add new paragraph (f) to read as follows:

§ 25.274 Procedures to be followed in the event of harmful interference.

* * * * *

(e) The earth station licensee whose operations are suspected of causing harmful interference to the operations of another earth station shall take reasonable measures to determine whether its operations are the source of the harmful interference problem. Where the operations of the suspect earth station are the source of the interference, the licensee of that earth station shall take all measures necessary to resolve the interference.

(f) Where the earth station suspected of causing harmful interference to the operations of another earth station cannot be identified or is identified as an earth station operating on a satellite system other than the one on which the earth station suffering harmful interference is operating, it is the responsibility of a representative of the earth station suffering harmful interference to contact the control center of other satellite systems. The operator of the earth station suffering harmful interference is free to choose any representative to make this contact, including but not limited to the operator of the satellite system on which the earth station is operating. The operator of the earth station suffering harmful interference is also free to contact the control center of the other satellite systems directly.

* * * * *

25. Amend § 25.277 by revising paragraph (d) and adding paragraph (f) to read as follows:

§ 25.277 Temporary fixed earth station operations.

* * * * *

(d) Except as set forth in § 25.151(e), transmissions may not be commenced until all affected terrestrial licensees have been notified and the earth station operator has confirmed that unacceptable interference will not be caused to such terrestrial stations.

* * * * *

(f) Filing requirements concerning applications for new temporary fixed earth station facilities operating in frequency bands shared co-equally with terrestrial fixed stations.

(1) When the initial location of the temporary fixed earth station's operation is known, the applicant shall provide, as part of the Form 312 application, a frequency coordination report in accordance with § 25.203 for the initial station location.

(2) When the initial location of the temporary fixed earth station's operation is not known at the time the application is filed, the applicant shall provide, as part of the Form 312 application, a statement by the applicant acknowledging its coordination responsibilities under § 25.277.

[FR Doc. 05-10975 Filed 6-1-05; 8:45 am]

BILLING CODE 6712-01-P